ENVIRONMENTAL PROTECTION AGENCY

[FRL-10904-01-OW]

Public Environmental Financial Advisory Board Virtual Meeting

AGENCY: Environmental Protection Agency (EPA).

ACTION: Notice of public meeting.

SUMMARY: The United States Environmental Protection Agency (EPA) announces a public meeting of the Environmental Financial Advisory Board (EFAB). The meeting will be conducted in a virtual format via webcast. The purpose of the meeting will be for the EFAB to receive updates on the Greenhouse Gas Reduction Fund. Written public comments may be provided in advance. No oral public comments will be accepted during the meeting. Please see the SUPPLEMENTARY INFORMATION section for further details.

DATES: The meeting will be held on May 11, 2023, from 1 p.m. to 3 p.m. Eastern Time.

ADDRESSES: The meeting will be conducted in a virtual format via webcast only. Information to access the webcast will be provided upon registration in advance of each meeting.

FOR FURTHER INFORMATION CONTACT: Tara Johnson, Office of Wastewater Management, Office of Water, Environmental Protection Agency; telephone number: (202) 564-6186; email address: efab@epa.gov. General information concerning the EFAB is available at https://www.epa.gov/waterfinancecenter/efab.

SUPPLEMENTARY INFORMATION:

Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a public meeting via webcast for the following purpose: Receive updates on the Greenhouse Gas Reduction Fund.

Registration for the Meeting: To register for the meeting, please visit https://www.epa.gov/waterfinancecenter/efab#meeting. Interested persons who wish to attend the meeting via webcast must register by May 10, 2023. Pre-registration is strongly encouraged.

Availability of Meeting Materials: Meeting materials, including the meeting agenda and briefing materials, will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public may submit comments on matters being considered by the EFAB for consideration as the Board develops its advice and recommendations to EPA.

Written Statements: Written statements should be received by May 8, 2023, so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the meeting and list any special requirements or accommodations needed on the registration form at least 10 business days prior to the meeting to allow as much time as possible to process your request.

Andrew D. Sawyers,
Director, Office of Wastewater Management, Office of Water.

[FR Doc. 2023-07971 Filed 4-14-23; 8:45 am]

BILLING CODE 6560-50-P